ENVIRONMENTAL PROTECTION AGENCY

[EPA-HQ-OPP-2014-0002; FRL-9915-56]

SFIREG POM and EQI Committees; Notice of Public Meeting

AGENCY: Environmental Protection Agency (EPA).

ACTION: Notice.

SUMMARY: The Association of American Pesticide Control Officials (AAPCO)/State FIFRA Issues Research and Evaluation Group (SFIREG), Environmental Quality Issues (EQI) Committee, and the Pesticide Operations and Management (POM) Committee will hold 2-day meetings, beginning on September 15, 2014 and ending September 16, 2014. This notice announces the location and times for the meeting and sets forth the tentative agenda topics.

DATES: The meeting will be held on Monday, September 15, 2014 from 8:30 a.m. to 5:00 p.m., and 8:30 a.m. to 12 p.m. on Tuesday, September 16, 2014.

To request accommodation of a disability, please contact the person listed under FOR FURTHER INFORMATON CONTACT, preferably at least 10 days prior to the meeting, to give EPA as much time as possible to process your request.

ADDRESSES: The meeting will be held at EPA, One Potomac Yard (South Bldg.), 2777 Crystal Dr., Arlington, VA, 4th Floor, South Conference Room.

FOR FURTHER INFORMATION CONTACT: Ron Kendall, Field External Affairs Division (7506P), Office of Pesticide Programs, Environmental Protection Agency, 1200 Pennsylvania Ave. NW., Washington, DC 20460-0001; telephone number: (703) 305-5561; fax number: (703) 305-5884; email address: kendall.ron@epa.gov. or Grier Stayton, SFIREG Executive Secretary, P.O. Box 466, Milford, DE 19963; telephone number: (302) 422-8152; fax (302) 422-2435; email address: Grier Stayton at aapco-sfireg@comcast.net.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA) and those who sell, distribute or use pesticides, as well as any Non-Government Organization.

If you have any questions regarding the applicability of this action to a particular entity, consult the person listed under FOR FURTHER INFORMATION CONTACT.

B. How can I get copies of this document and other related information?

The docket for this action, Identified by docket identification (ID) number EPA-HQ-OPP-2014-0002 is available at http://www.regulations.gov, or at the Office of Pesticide Programs Regulatory Public Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202)-566-1744, and the telephone number for the OPP Docket is (703) 305-5805. Please review the visitor instructions and additional information about the docket available at http://www.epa.gov/dockets.

II. Tentative Agenda Topics

• Sharing State Data with EPA-OECA.

• Cover Crop issue—National Resource Conservation Service (NRCS) actions.

• Worker Protection Standard, Economic impact to State Lead Agencies (SLA's).

• Developing a Pollinator Protection Program template for AAPCO membership.

• USDA 2,4-D/Dicamba Risk Assessment—Proposed Implementation Plans.

• Manufacturers view of Designed for the Environment pesticide products.

• Robust discussion on the status of the Pesticides of Interest to States (POINTS) data system.

• Current and future monitoring or evaluation actions regarding urban pesticide use.

• Presentation on the USFWS bat and bird pesticide impact reporting system.

• Update of aquatic risk assessment: Data requirements, procedures, and models.

III. How can I request to participate in this meeting?

This meeting is open for the public to attend. You may attend the meeting without further notification.

Dated: August 21, 2014.
Jay S. Ellenberger,
Acting Director, Field and External Affairs Division, Office of Pesticide Programs.

[FR Doc. 2014-20770 Filed 8-29-14; 8:45 am]

BILLING CODE 6560-50-P